DEPARTMENT OF TRANSPORTATION

Federal Aviation Administration

14 CFR Part 39

[Docket No. FAA-2007-28843 Directorate Identifier 2007-CE-065-AD; Amendment 39-15317; AD 2007-26-15]

RIN 2120-AA64

Airworthiness Directives; DG Flugzeugbau GmbH Model DG-500MB Gliders

AGENCY: Federal Aviation Administration (FAA), DOT.

ACTION: Final rule; correction.

SUMMARY: This document makes a correction to Airworthiness Directive (AD) 2007-26-15, which was published in the Federal Register on January 3, 2008 (73 FR 400), and applies to all DG Flugzeugbau GmbH Model DG-500MB gliders. AD 2007-26-15 requires that you modify the affected parts and exchange pages in the flight, maintenance, and repair manuals. The FAA incorrectly referenced the AD number as “2007-26-25” instead of “2007-26-15.” Current language in § 39.13 [Amended] of AD 2007-26-15 references “AD 2007-26-25” instead of “2007-26-15.” This document corrects that paragraph by replacing the reference of “2007-26-25” with “2007-26-15.”

DATES: The effective date of this AD (2007-26-15) remains February 7, 2008.

FOR FURTHER INFORMATION CONTACT: Greg Davison, Glider Program Manager, FAA, Small Airplane Directorate, 901 Locust, Room 301, Kansas City, Missouri 64106; telephone: (816) 329-4130; fax: (816) 329-4090.

SUPPLEMENTARY INFORMATION:

Discussion

On December 20, 2007, the FAA issued AD 2007-26-15, Amendment 39-15317 (73 FR 400, January 3, 2008), which applies to all DG Flugzeugbau GmbH Model DG-500MB gliders. AD 2007-26-15 requires you to modify the affected parts and exchange pages in the flight, maintenance, and repair manuals. Current language in § 39.13 [Amended] of AD 2007-26-15 references “2007-26-25” instead of “2007-26-15.”

Need for the Correction

This correction is needed to specify the correct AD number of AD 2007-26-15.

Correction of Publication

Accordingly, the publication of January 3, 2008 (73 FR 400), of Amendment 39-15317; AD 2007-26-15, which was the subject of FR Doc. E7-25212, is corrected as follows:

On page 400, in the second column, in the third line under the heading 14 CFR Part 39, replace “2007-26-25” with “2007-26-15.”

§ 39.13 [Corrected]

On page 401 in the second column, in the third line under the heading § 39.13 [Amended], replace “2007-26-25” with “2007-26-15.”

Action is taken herein to correct this reference in AD 2007-26-15 and to add this AD correction to section 39.13 of the Federal Aviation Regulations (14 CFR 39.13).

The effective date remains February 7, 2008.

Issued in Kansas City, Missouri, on January 11, 2008.
John Colomy,
Acting Manager, Small Airplane Directorate, Aircraft Certification Service.

[FR Doc. E8-830 Filed 1-23-08; 8:45 am]

BILLING CODE 4910-13-P